FEDERAL RESERVE SYSTEM

Agency Information Collection Activities: Announcement of Board Approval Under Delegated Authority and Submission to OMB

AGENCY: Board of Governors of the Federal Reserve System.

SUMMARY: The Board of Governors of the Federal Reserve System (Board) is adopting a proposal to extemd for three years, without revision, the Recordkeeping and Disclosure Requirements Associated with the Consumer Financial Protection Bureau's (CFPB) and the Board's Regulation V (FR V; OMB No. 7100-0308).

FOR FURTHER INFORMATION CONTACT: Federal Reserve Board Clearance Officer—Nuha Elmaghrabi—Office of the Chief Data Officer, Board of Governors of the Federal Reserve System, nuha.elmaghrabi@frb.gov, (202) 452-3884.

Office of Management and Budget (OMB) Desk Officer for the Federal Reserve Board, Office of Information and Regulatory Affairs, Office of Management and Budget, New Executive Office Building, Room 10235, 725 17th Street NW, Washington, DC 20503, or by fax to (202) 395-6974.

SUPPLEMENTARY INFORMATION: On June 15, 1984, OMB delegated to the Board authority under the Paperwork Reduction Act (PRA) to approve and assign OMB control numbers to collections of information conducted or sponsored by the Board. Board-approved collections of information are incorporated into the official OMB inventory of currently approved collections of information. The OMB inventory, as well as copies of the PRA Submission, supporting statements (which contain more detailed information about the information collections and burden estimates than this notice), and approved collection of information instrument(s) are available at https://www.reginfo.gov/public/do/PRAMain. These documents are also available on the Federal Reserve Board's public website at https://www.federalreserve.gov/apps/reportingforms/review or may be requested from the agency clearance officer, whose name appears above. On the page displayed at the link above, you can find the supporting information by referencing the collection identifier, FR V.

Final Approval Under OMB Delegated Authority of the Extension for Three Years, Without Revision, of the Following Information Collection

Collection title: Recordkeeping and Disclosure Requirements Associated with the CFPB's and the Board's Regulations V.

Collection identifier: FR V.

OMB control number: 7100-0308.

General description of collection: The CFPB's Regulation V and the Board's Regulation V implement in part the Fair Credit Reporting Act (FCRA), which was enacted in 1970 based on a Congressional finding that the banking system is dependent on fair and accurate credit reporting. The FCRA requires consumer reporting agencies to adopt reasonable procedures that are fair and equitable to the consumer with regard to the confidentiality, accuracy, relevancy, and proper utilization of consumer information. The Board continues to be responsible for renewing every three years the information collection requirements contained in the CFPB's Regulation V for institutions with $10 billion or less in assets that are identified in 15 U.S.C. 1681s(b)(1)(A)(ii) and for consumers of these institutions, as well as for the identity theft red flags provisions in the Board's Regulation V for institutions of any size that are identified in 15 U.S.C. 1681s(b)(1)(A)(ii).

Frequency: Event-generated.

Respondents: Individuals and all depository institutions identified in 15 U.S.C. 1681s(b)(1)(A)(ii).

Total estimated number of respondents: 282,070.

Total estimated annual burden hours: 403,418.

Current actions: On July 31, 2025, the Board published a notice in the Federal Register (90 FR 36055) requesting public comment for 60 days on the extension, without revision, of the FR V. The comment period for this notice expired on September 29, 2025. The Board did not receive any comments.

Board of Governors of the Federal Reserve System, December 4, 2025.
Erin M. Cayce,
Assistant Secretary of the Board.

[FR Doc. 2025-22263 Filed 12-5-25; 8:45 am]

BILLING CODE 6210-01-P